DEPARTMENT OF THE TREASURY

Financial Crimes Enforcement Network; Bank Secrecy Act Advisory Group; Solicitation of Application for Membership

AGENCY: Financial Crimes Enforcement Network, Department of the Treasury.

ACTION: Notice and request for nominations.

SUMMARY: FinCEN is inviting the public to nominate financial institutions and trade groups for membership on the Bank Secrecy Act Advisory Group. New members will be selected for three-year membership terms.

DATES: Nominations must be received by December 14, 2007.

ADDRESSES: Applications may be mailed (not sent by facsimile) to Regulatory Policy and Programs Division, Financial Crimes Enforcement Network, P.O. Box 39, Vienna, VA 22183 or e-mailed to: BSAAG@fincen.gov.

FOR FURTHER INFORMATION CONTACT: Jennifer White, Regulatory Outreach Specialist at 202-354-6400.

SUPPLEMENTARY INFORMATION: The Annunzio-Wylie Anti-Money Laundering Act of 1992 required the Secretary of the Treasury to establish a Bank Secrecy Act Advisory Group (BSAAG) consisting of representatives from federal regulatory and law enforcement agencies, financial institutions, and trade groups' subject to the reporting requirements of the Bank Secrecy Act, 31 CFR 103 et seq. or Section 6050I of the Internal Revenue Code of 1986. The BSAAG is the means by which the Secretary receives advice on the operations of the Bank Secrecy Act. As chair of the BSAAG, the Director of FinCEN is responsible for ensuring that relevant issues are placed before the BSAAG for review, analysis, and discussion. Ultimately, the BSAAG will make policy recommendations to the Secretary on issues considered.

BSAAG membership is open to financial institutions and trade groups. New members will be selected to serve a three-year term. It is important to provide complete answers to the following items, as applications will be evaluated on the information provided through this application process. Applications should consist of:

• Name of the organization requesting membership.

• Point of contact, title, address, e-mail address, phone number.

• The BSAAG vacancy for which the organization is applying.

• Description of the financial institution or trade group and its involvement with the Bank Secrecy Act, 31 CFR 103 et seq.

• Reasons why the organization's participation on the BSAAG will bring value to the group.

Organizations may nominate themselves, but applications for individuals who are not representing an organization will not be considered. FinCEN is interested in bringing representatives from state regulatory agencies, state regulator trade groups, self-regulatory organizations, industry trade groups, and industry members together with federal law enforcement and federal regulatory agencies to help advise the Secretary of the Treasury on matters relating to the administration of the Bank Secrecy Act. Members must be able and willing to make the necessary time commitment to participate on sub-committees throughout the year by phone and attend biannual plenary meetings held in Washington, DC in the spring and fall. Members will not be remunerated for their time, services, or travel. In making the selections, FinCEN will seek to complement current BSAAG members in terms of affiliation, industry, and geographic representation. The Director of FinCEN retains full discretion on all membership decisions. The Director may consider prior years' applications when making selections and does not limit consideration to institutions nominated by the public when making its selection. Based on current BSAAG position openings we encourage applications from the following sectors or types of organizations with experience working on the Bank Secrecy Act:

• Self-Regulatory Organizations (2 vacancies).

• State Governments (1 vacancy).

• Industry Trade Groups—Banking Sector (1 vacancy).

• Industry Trade Groups—State Level (1 vacancy).

• Industry Trade Groups—International (1 vacancy).

• Industry Trade Groups—Money Services Business Sector (1 vacancy).

• Industry Trade Groups—Securities (1 vacancy).

• Industry Trade Groups—Mutual Funds (1 vacancy).

• Industry Trade Groups—Investment Companies (1 vacancy).

• Industry Representatives—Banking (2 vacancies).

• Industry Representatives—Stored Value (1 vacancy).

• Industry Representatives—Securities/ Futures (1 vacancy).

Dated: November 6, 2007.
James H. Freis, Jr.,
Director, Financial Crimes Enforcement Network.

[FR Doc. E7-22181 Filed 11-13-07; 8:45 am]

BILLING CODE 4810-02-P